DEPARTMENT OF TRANSPORTATION

Federal Aviation Administration

Eleventh Meeting: RTCA Tactical Operations Committee (TOC)

AGENCY: Federal Aviation Administration (FAA), U.S. Department of Transportation (DOT).

ACTION: Eleventh Meeting Notice of RTCA NextGen Advisory Committee.

SUMMARY: The FAA is issuing this notice to advise the public of the eleventh meeting of the RTCA NextGen Advisory Committee.

DATES: The meeting will be held February 20, 2014 from 9:30 a.m.—3:00 p.m.

ADDRESSES: The meeting will be held at Honeywell Deer Valley, 21111 N. 19th Ave, Conference Room PRN A, B & C, Phoenix, AZ 85027.

FOR FURTHER INFORMATION CONTACT: The RTCA Secretariat, 1150 18th Street NW., Suite 910, Washington, DC, 20036, or by telephone at (202) 833-9339, fax at (202) 833-9434, or Web site at http://www.rtca.org. Andy Cebula, NAC Secretary can also be contacted at acebula@rtca.org or 202-330-0652.

SUPPLEMENTARY INFORMATION: Pursuant to section 10(a) (2) of the Federal Advisory Committee Act (Pub. L. 92-463, 5 U.S.C., App.), notice is hereby given for a meeting of Special Committee 224. The agenda will include the following:

The meeting is being held at the secured facilities of Honeywell Aerospace. All members of the public are required to register no later than February 12, 2014, by contacting Kathy Phoenix via email Kathy.phoenix@honeywell.com and provide the following information:

U.S. Citizens

—Last name, First name (as it appears on State Drivers License or State ID)

—Employer and Address

—Phone Number

—Statement of U.S. Citizenship

Non-U.S. Citizens

—Full Name as it appears on Passport

—Country of Citizenship

—Passport and Visa Numbers, I-94 Stamp and Expiration Date

—Employer and Address—Identify whether U.S. or foreign-owned

—Phone number contact

February 20

• Opening of Meeting/Introduction of NAC Members—Chairman Bill Ayer

• Official Statement of Designated Federal Official—The Honorable Mike Whitaker, FAA Deputy Administrator

• Review and Approval of September 2013 Meeting Summary

• Chairman's Report—Chairman Ayer

• FAA Report—Mr. Whitaker

• Report on current topics related to NextGen implementation

• DataComm—Update and Status

• Previous NAC Recommendations

○ FAA Response and Next Steps to previous NAC recommendations

○ NextGen Capabilities Prioritization

○ CatEx 2

○ Fuel Data Sources

○ PBN Implementation

• Review and Approve Recommendation for Submission to FAA—Industry Barriers to NextGen Utilization

• Report to identify and mitigate industry barriers to implementing PBN

• Blueprint for Performance-Based Navigation Procedures Implementation

• Overview of Tasking

• Soliciting Committee Perspectives on Blueprint for Performance-Based Navigation Procedures Implementation

• Committee Breakouts and Discussion of Tasking Questions

• Recap of Meeting and Anticipated Issues for NAC consideration and action at the next meeting, June 4, 2014, Washington DC

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 27, 2014.
Paige Williams,
Management Analyst, NextGen, Business Operations Group, Federal Aviation Administration.

[FR Doc. 2014-02029 Filed 1-30-14; 8:45 am]

BILLING CODE 4910-13-P